DEPARTMENT OF COMMERCE

Foreign-Trade Zones Board

[B-10-2025]

Foreign-Trade Zone (FTZ) 40, Notification of Proposed Production Activity; Eagle Electronics; (Cellular Modules); Solon, Ohio

The Cleveland Cuyahoga County Port Authority, grantee of FTZ 40, submitted a notification of proposed production activity to the FTZ Board (the Board) on behalf of Eagle Electronics, in conjunction with the CO-AX Technology Inc. (CO-AX) facility in Solon, Ohio within FTZ 40. The notification conforming to the requirements of the Board's regulations (15 CFR 400.22) was received on February 21, 2025.

Pursuant to 15 CFR 400.14(b), FTZ production activity would be limited to the specific foreign-status materials/components and specific finished product described in the submitted notification (summarized below) and subsequently authorized by the Board. The benefits that may stem from conducting production activity under FTZ procedures are explained in the background section of the Board's website—accessible via www.trade.gov/ftz.

The proposed finished product is cellular modules (duty rate is duty-free).

The proposed foreign-status materials/components include: silica gel desiccants; polyethylene packing bags; polystyrene carrier tape; plastic packing plates; paper components (cartons; non-adhesive labels); humidity cards; thermal conductivity adhesives; polyimide labels; inductors; duplexers; capacitors; resistors; thermistors; printed circuit boards; diodes; transistors; crystal oscillators; integrated circuits; ferrite beads; wave filters; steel alloy components (shields; shielding covers; shielding frames); printed circuit connectors; and, quadruplexers (duty rate ranges from duty-free to 6.5%). The request indicates that certain materials/components are subject to duties under section 1702(a)(1)(B) of the International Emergency Economic Powers Act (section 1702) and section 301 of the Trade Act of 1974 (section 301), depending on the country of origin. The applicable section 1702 and section 301 decisions require subject merchandise to be admitted to FTZs in privileged foreign (PF) status (19 CFR 146.41). The request also indicates that polyethylene packing bags are subject to an antidumping/countervailing duty (AD/CVD) order on polyethylene retail carrier bags if imported from certain countries. The Board's regulations (15 CFR 400.13(c)(2)) require that merchandise subject to AD/CVD orders, or items which would be otherwise subject to suspension of liquidation under AD/CVD procedures if they entered U.S. customs territory, be admitted to the zone in PF status.

Public comment is invited from interested parties. Submissions shall be addressed to the Board's Executive Secretary and sent to: ftz@trade.gov. The closing period for their receipt is April 8, 2025.

A copy of the notification will be available for public inspection in the “Online FTZ Information System” section of the Board's website.

For further information, contact Juanita Chen at juanita.chen@trade.gov.

Dated: February 24, 2025.
Elizabeth Whiteman,
Executive Secretary.

[FR Doc. 2025-03177 Filed 2-26-25; 8:45 am]

BILLING CODE 3510-DS-P